DEPARTMENT OF TRANSPORTATION

Federal Aviation Administration

[Policy Statement No. ANE-2001-33.17-R0]

Policy for Evaluating Fire Prevention Requirements and Fuel System Leakage

AGENCY: Federal Aviation Administration, DOT.

ACTION: Notice of proposed statement; request for comments.

SUMMARY: The Federal Aviation (FAA) announces the availability of a proposed policy for evaluating engine fuel leakage of a sealing device or assembly of engine components in relation to fire prevention requirements.

DATES: Comments must be received by April 16, 2001.

ADDRESSES: Send all comments on the proposed policy to the individual identified under FOR FURTHER INFORMATION CONTACT.

FOR FURTHER INFORMATION CONTACT: Gary Horan, FAA, Engine and Propeller Standards Staff, ANE-110, 12 New England Executive Park, Burlington, MA 01803; e-mail: gary.horan@faa.gov; telephone: (781) 238-7164; fax: (781) 238-7199.

SUPPLEMENTARY INFORMATION:

Comments Invited

The proposed policy statement is available on the Internet at the following address: <http://www.faa.gov/avr/air/ane/ane110/hpage.htm>. If you do not have access to the Internet, you may request a copy by contacting the individual listed under FOR FURTHER INFORMATION CONTACT. The FAA invites interested parties to comment on the proposed policy. Comments should identify the subject of the proposed policy and be submitted to the address specified under FOR FURTHER INFORMATION CONTACT. The FAA will consider all comments received by the closing date before issuing the final policy.

Background

This policy would provide guidance for § 33.17 of Title 14 of the Code of Federal Regulations, Fire prevention. The proposed policy, which would apply to all types of aircraft engines governed by § 33.17, would discuss what might be considered acceptable engine fuel leakage of a sealing device or assembly of engine components. The proposed policy would not establish new requirements.

Authority: 49 U.S.C. 106(g), 40113, 44701-44702, 44704.

Issued in Burlington, Massachusetts, on March 1, 2001.
David A. Downey,
Assistant Manager, Engine and Propeller Directorate, Aircraft Certification Service.

[FR Doc. 01-6377 Filed 3-14-01; 8:45 am]

BILLING CODE 4910-13-M